NEIGHBORHOOD REINVESTMENT CORPORATION

Sunshine Act Meeting

Regular Meeting of the Board of Directors

Time and Date: 2 p.m., Monday, February 26, 2001.

Place: Neighborhood Reinvestment Corporation, 1325 G Street, NW, Suite 800, Board Room, Washington, DC 20005.

Status: Open.

Contact Person for More Information: Jeffrey T. Bryson, General Counsel/Secretary, 202-220-2372 or jbryson@nw.org.

Agenda:

I. Call to Order

II. Approval of Minutes: November 20, 20, 2000, Regular Meeting

III. Audit Committee Report: January 9, 2001, Meeting

IV. Budget Committee Report: January 25, 2001, Meeting

V. Resolutions of Appreciation

VI. Treasurer's Report

VII. Executive Director's Management Report

VIII. Adjournment

Jeffrey T. Bryson,
General Counsel/Secretary.

[FR Doc. 01-4554 Filed 2-20-01; 3:03 pm]

BILLING CODE 7570-01-M